DEPARTMENT OF THE INTERIOR

Bureau of Land Management

[AK-962-1410-HY-P; F-93343-BC, F-93344-BC, DYA-12]

Alaska Native Claims Selection

AGENCY: Bureau of Land Management, DOI.

ACTION: Notice of decision approving lands for conveyance.

SUMMARY: As required by 43 CFR 2650.7(d), notice is hereby given that an appealable decision approving oil and gas for conveyance pursuant to the Alaska Native Claims Settlement Act, as amended, will be issued to Doyon, Limited. The oil and gas was reserved to the United States pursuant to the Act of March 8, 1922, as amended and supplemented, in Native allotment certificates issued for the lands described below:

Lots 1, 2, and 3, U.S. Survey No. 6986, Alaska, in T. 16 N., R. 9 E., Fairbanks Meridian;

U.S. Survey No. 6991, Alaska, in T. 15 N., R. 10 E., Fairbanks Meridian (FM);

U.S. Survey No. 6994, Alaska, in T. 18 N., R. 10 E., FM;

U.S. Survey No. 7047, Alaska, in T. 16 N., R. 10 E., FM;

U.S. Survey No. 7049, Alaska, in Tps. 16 N., Rs. 9 and 10 E., FM;

U.S. Survey No. 7058, Alaska, in T. 17 N., R. 7 E., FM;

U.S. Survey No. 7904, Alaska, in T. 18 N., R. 10 E., FM;

U.S. Survey No. 7905, Alaska, in T. 16 N., R. 9 E., FM;

U.S. Survey No. 7906, Alaska, in T. 16 N., R. 10 E., FM;

Lot 1, U.S. Survey No. 7907, Alaska, in T. 16 N., R. 9 E., FM;

U.S. Survey No. 7913, Alaska, in T. 16 N., R. 11 E., FM;

U.S. Survey No. 7992, Alaska, in T. 15 N., R. 8 E., FM;

U.S. Survey No. 7993, Alaska, in T. 15 N., R. 11 E., FM;

U.S. Survey No. 8038, Alaska, in T. 17 N., R. 9 E., FM;

U.S. Survey No. 9834, Alaska, in T. 18 N., R. 7 E., FM;

Lots 1 and 2, U.S. Survey No. 9836, Alaska, in T. 18 N., R. 7 E., FM;

U.S. Survey No. 9877, Alaska, in T. 17 N., R. 7 E., FM;

Lots 1 and 2, U.S. Survey No. 9878, Alaska, in T. 17 N., R. 7 E., FM;

U.S. Survey No. 9879, Alaska, in T. 17 N., R. 7 E., FM;

U.S. Survey No. 9884, Alaska, in T. 16 N., R. 10 E., FM;

Lots 1 and 2, U.S. Survey No. 9892, Alaska, in Tps. 16 N., Rs. 8 and 9 E., FM;

U.S. Survey No. 9893, Alaska, in T. 16 N., R. 9 E., FM;

U.S. Survey No. 9894, Alaska, in T. 16 N., R. 9 E., FM;

U.S. Survey No. 9895, Alaska, in T. 16 N., R. 9 E., FM;

Lots 1, 2, and 3, U.S. Survey No. 9898, Alaska, in T. 16 N., R. 8 E., FM;

U.S. Survey No. 9899, Alaska, in T. 16 N., R. 8 E., FM;

Lots 1 to 4, inclusive, U.S. Survey No. 9900, Alaska, in Tps. 16 N., Rs. 8 and 9 E., FM.

The lands are located in the vicinity of Birch Creek, Alaska, and aggregate 3,179.16 acres. Notice of the decision will also be published four times in the Fairbanks Daily News-Miner.

DATES: The time limits for filing an appeal are:

1. Any party claiming a property interest which is adversely affected by the decision shall have until October 15, 2002, to file an appeal.

2. Parties receiving service of the decision by certified mail shall have 30 days from the date of receipt to file an appeal.

Parties who do not file an appeal in accordance with the requirements of 43 CFR part 4, Subpart E, shall be deemed to have waived their rights.

ADDRESSES: A copy of the decision may be obtained from: Bureau of Land Management, Alaska State Office, 222 West Seventh Avenue, #13, Anchorage, Alaska 99513-7599.

FOR FURTHER INFORMATION CONTACT: Christy Favorite, 907-271-5656, or by e-mail at cfavorit@ak.blm.gov.

Christy Favorite,
Land Law Examiner, Branch of ANCSA Adjudication.

[FR Doc. 02-23301 Filed 9-12-02; 8:45 am]

BILLING CODE 4310-$$-P